FEDERAL ELECTION COMMISSION

11 CFR Parts 102, 104, 110

[Notice 2015-10]

Rulemaking Petition: Contributions From Corporations and Other Organizations to Political Committees

AGENCY: Federal Election Commission.

ACTION: Rulemaking petition; notice of availability.

SUMMARY: On May 14, 2015, the Federal Election Commission received a Petition for Rulemaking that asks the Commission to revise existing rules concerning the reporting of contributions to political committees from corporations and other organizations. The Commission seeks comments on this petition.

DATES: Comments must be submitted on or before October 27, 2015.

ADDRESSES: All comments must be in writing. Commenters are encouraged to submit comments electronically via the Commission's Web site at http://www.fec.gov/fosers, reference REG 2015-03, or by email to ContributionPetition2015@fec.gov. Alternatively, commenters may submit comments in paper form, addressed to the Federal Election Commission, Attn.: Robert M. Knop, Assistant General Counsel, 999 E Street NW., Washington, DC 20463.

Each commenter must provide, at a minimum, his or her first name, last name, city, state, and zip code. All properly submitted comments, including attachments, will become part of the public record, and the Commission will make comments available for public viewing on the Commission's Web site and in the Commission's Public Records room. Accordingly, commenters should not provide in their comments any information that they do not wish to make public, such as a home street address, personal email address, date of birth, phone number, social security number, or driver's license number, or any information that is restricted from disclosure, such as trade secrets or commercial or financial information that is privileged or confidential.

FOR FURTHER INFORMATION CONTACT: Mr. Robert M. Knop, Assistant General Counsel, or Mr. Sean J. Wright, Attorney, Office of General Counsel, 999 E Street NW., Washington, DC 20463, (202) 694-1650 or (800) 424-9530.

SUPPLEMENTARY INFORMATION: On May 14, 2015, the Federal Election Commission received a Petition for Rulemaking from Make Your Laws PAC, Inc. and Make Your Laws Advocacy, Inc. The petition asks the Commission to modify its regulations requiring disclosure of contributions from corporations and other organizations to political committees.

The Federal Election Campaign Act, 52 U.S.C. 30101-46 (the “Act”), and Commission regulations require all political committees to abide by certain organizational, record-keeping, and reporting requirements. See 52 U.S.C. 30102, 30103, 30104; 11 CFR 102.1, 102.2, 102.7, 104.3. This includes maintaining records of contribution receipts and disbursements, reporting independent expenditures, and filing periodic disclosure reports that identify the source of each contribution exceeding $200. See 11 CFR 104.3(a)(4)(i), 104.4, 104.5(c). Commission regulations also require every person who makes electioneering communications aggregating in excess of $10,000 in a calendar year and every person (other than a political committee) that makes independent expenditures in excess of $250 with respect to a given election in a calendar year to report certain information to the Commission. 11 CFR 104.20(b) and (c), 109.10(b) and (e); 52 U.S.C. 30104(c)(1) and (2), (f).

The petition asks the Commission to establish a new rule requiring that “any person, other than a natural person, contributing an aggregate of more than $1,000 in any calendar year to any political committee, whether directly or indirectly” (emphasis omitted), must do so from an account subject to certain reporting requirements. Specifically, the petition asks the Commission to require that these accounts disclose “the original source of all election-related contributions and expenditures, traceable through all intermediary entities to a natural person, regardless of the amounts or entities involved” (emphasis omitted). The petition also asks the Commission to apply to these accounts the identification requirements of 11 CFR 100.12; the Act's prohibition on foreign national contributions, 52 U.S.C. 30121; allocation rules for administrative expenses; and, in some circumstances, the Act's limitations on contributions to political committees.

The Commission seeks comments on the petition. The public may inspect the petition on the Commission's Web site at http://www.fec.gov/fosers, or in the Commission's Public Records Office, 999 E Street NW., Washington, DC 20463, Monday through Friday, from 9 a.m. to 5 p.m. Interested persons may also obtain a copy of the petition by dialing the Commission's Faxline service at (202) 501-3413 and following its instructions. Request document #279.

The Commission will not consider the petition's merits until after the comment period closes. If the Commission decides that the petition has merit, it may begin a rulemaking proceeding. The Commission will announce any action that it takes in the Federal Register.

On behalf of the Commission,
Dated: July 16, 2015.
Ann M. Ravel,
Chair, Federal Election Commission.

[FR Doc. 2015-18495 Filed 7-28-15; 8:45 am]

BILLING CODE 6715-01-P